DEPARTMENT OF JUSTICE

Notice of Lodging of a Consent Decree Pursuant to the Clean Water Act

Notice is hereby given that a proposed Consent Decree in United States of America and the State of Alabama v. The Board of Water and Sewer Commissioners of the City of Mobile, Alabama, Civ. No. 02-0058-CB-S, and Mobile Bay Watch, Inc. v. The Board of Water and Sewer Commissioners of the City of Mobile, Alabama, Civ. No. CV-99-0595-CB-S, was lodged on January 24, 2002, with the United States District Court for the Southern District of Alabama.

The proposed Consent Decree would resolve certain claims under sections 301 and 402 of the Clean Water Act, 33 U.S.C. 1251, et seq., against the Board of Water and Sewer Commissioners of the City of Mobile, Alabama (“Board”), through the performance of injunctive measures, the payment of a civil penalty, and the performance of Supplemental Environmental Projects (“SEPs”). The United States, the State of Alabama and Mobile Bay Watch, Inc., allege that the Board is liable as a person who has discharged a pollutant from a point source to navigable waters of the United States without a permit and, in some cases, in excess of permit limitations.

The proposed Consent Decree would resolve the liability of the Board for the violations alleged in the complaints filed in these matters. The proposed Consent Decree would release claims against the Board for performance of injunctive measures to remedy the alleged violations, and for penalties for the violations alleged in the complaints. To resolve these claims, the Board would perform the injunctive measures described in the proposed Consent Decree, including the implementation of a capacity assurance program, a grease control program, and a water quality monitoring program; would pay a civil penalty of $114,000 ($99,000 to the United States Treasury and $15,000 to the State of Alabama); and would perform four SEPs valued at $2.5 million collectively, including the installation of new private sewer laterals in low-income households within the Board's service area, the acquisition of environmentally beneficial parcels of land, and the creation of a water quality monitoring database.

The Department of Justice will receive comments relating to the proposed Consent Decree for a period of thirty (30) days from the date of this application. As a result of the discovery of anthrax contamination at the District of Columbia mail processing center in mid-October, 2001, the delivery of regular first-class mail sent through the U.S. Postal Service has been disrupted. Consequently, public comments which are addressed to the Department of Justice in Washington, DC and sent by regular, first-class mail through the U.S. Postal Service are not expected to be received in timely manner. Therefore, comments should be addressed to the Assistant Attorney General, Environment and Natural Resources Division, Department of Justice, and sent: (1) c/o Melissa Heath, Assistant Regional Counsel, U.S. Environmental Protection Agency, Atlanta Federal Center, 61 Forsyth Street, SW, Atlanta, Georgia 30303; and/or (2) by facsimile to (202) 353-0296; and/or (3) by overnight delivery, other than through the U.S. Postal Service, to Chief, Environmental Enforcement Section, 1425 New York Avenue, NW, 13th Floor, Washington, DC 20005. Each communication should refer on its face to United States v. The Board of Water and Sewer Commissioners of the City of Mobile, Alabama, DJ No. 90-5-1-1-06985.

The proposed Consent Decree may be examined at the office of the United States Attorney for the Southern District of Alabama, 63 South Royal Street, Mobile, AL 36602, and at the Region 4 Office of the Environmental Protection Agency, Atlanta Federal Center, 61 Forsyth Street, SW, Atlanta GA 30303. A copy of the proposed Consent Decree may also be obtained by faxing a request to Tonia Fleetwood, Department of Justice Consent Decree Library, fax no. (202) 616-6584; phone confirmation no. (202) 514-1547. There is a charge for the copy (25 cents per page reproduction cost). Upon requesting a copy, please mail a check payable to the “U.S. Treasury”, in the amount of $25.75, to: Consent Decree Library, U.S. Department of Justice, P.O. Box 7611, Washington, DC 20044-7611. The check should refer to United States v. The Board of Water and Sewer Commissioners of the City of Mobile, Alabama, DJ No. 90-5-1-1-06985.

Walker Smith,
Principal Deputy Chief, Environmental Enforcement Section, Environment and Natural Resources Division.

[FR Doc. 02-4431 Filed 2-22-02; 8:45 am]

BILLING CODE 4410-15-M